DEPARTMENT OF THE INTERIOR

Fish and Wildlife Service

[Docket No. FWS-HQ-IA-2016-0065; FXIA16710900000-156-FF09A30000]

Endangered Species; Marine Mammals; Emergency Exemption; Issuance of Permits

AGENCY: Fish and Wildlife Service, Interior.

ACTION: Notice of issuance/emergency issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

A. Endangered Species

Permit No. | Applicant | Receipt of application Federal Register notice | Permit issuance date
68465B | Tanganyika Wildlife Park | 80 FR 73207; November 24, 2015 | April 5, 2016.
10836A | University of Michigan | 81 FR 791; January 7, 2016 | March 21, 2016.
80482B | Duke Lemur Center | 81 FR 2899; January 19, 2016 | April 19, 2016.
79093B | Kinsey Robinson | 81 FR 5778; February 03, 2016 | March 22, 2016.
81613B | William Parks | 81 FR 5778; February 03, 2016 | March 22, 2016.
85776B | Scott Linter | 81 FR 5778; February 03, 2016 | March 22, 2016.
82278B | William Perrine | 81 FR 5778; February 03, 2016 | March 28, 2016.
82246B | Santa Barbara Zoo | 81 FR 5778; February 03, 2016 | April 18, 2016.
83947B | Harry Peterson | 81 FR 8093; February 17, 2016 | March 21, 2016.
86982B | Cynthia Lagueux, University of Florida | 81 FR 8093; February 17, 2016 | March 28, 2016.
69024B | Yerkes National Primate Research Center | 80 FR 62089, October 15, 2015; 81 FR 3452, January 21, 2016 | May 2, 2016.

B. Marine Mammals

Permit No. | Applicant | Receipt of application Federal Register notice | Permit issuance date
186914 | Monterey Bay Aquarium | 80 FR 62089; October 15, 2015 | April 18, 2016.
81843B | Indianapolis Zoological Society | 81 FR 8093; February 17, 2016 | April 18, 2016.

C. Emergency Exemption

On May 2, 2016, the Service issued a permit (PRT-94614B) to the U.S. Fish and Wildlife Service, Austwell, Texas, to import four viable eggs from captive-bred whooping crane (Grus americana) for the purpose of enhancement of the survival of the species. This action was authorized under Section 10(c) of the Endangered Species Act of 1973, as amended (16 U.S.C. 1531 et seq.). The Service determined that an emergency affecting the health and viability of the whooping crane eggs existed, and that no reasonable alternative was available to the applicant for the following reason:

The Service's Whooping Crane Coordinator requested a permit to import these fertile eggs from the Calgary Zoo in Alberta, Canada, due to the ongoing 30-day comment period that their existing import permit (PRT-013808) was undergoing. Not being able to import these eggs by early May 2016 under their existing permit would cause undue hardship on the species recovery program, forcing Calgary Zoo to consider culling the eggs. If shipped, the eggs will be hatched and the chicks will be raised at the Patuxent Wildlife Research Center in Laurel, Maryland, with the chicks ultimately being reintroduced into Southwest Louisiana as part of an ongoing recovery project.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2016-10520 Filed 5-4-16; 8:45 am]

BILLING CODE 4333-15-P